DEPARTMENT OF HOMELAND SECURITY

Coast Guard

33 CFR Part 117

[Docket No. USCG-2009-0689]

Drawbridge Operation Regulation; Gulf Intracoastal Waterway, Sargent, TX

AGENCY: Coast Guard, DHS.

ACTION: Notice of temporary deviation from regulations.

SUMMARY: The Commander, Eighth Coast Guard District, has issued a temporary deviation from the regulation governing the operation of the FM 457 pontoon drawbridge across the Gulf Intracoastal Waterway, mile 418.0, west of Harvey Locks, near Sargent, Matagorda County, Texas. The deviation is necessary for continued maintenance of the bridge. This deviation allows the bridge to remain closed to navigation.

DATES: This deviation is effective from 6 a.m. through 5 p.m. on September 2, 2009.

ADDRESSES: Documents mentioned in this preamble as being available in the docket are part of docket USCG-2009-0689 and are available online by going to http://www.regulations.gov, inserting USCG-2009-0689 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Bridge Administration Branch, Coast Guard; telephone 504-671-2128, e-mail Lindsey.R.Middleton@uscg.mil. If you have questions on viewing the docket, call Renee V. Wright, Program Manager, Docket Operations, telephone 202-366-9826.

SUPPLEMENTARY INFORMATION: The Texas Department of Transportation has requested a temporary deviation for the FM 457 pontoon drawbridge across the Gulf Intracoastal Waterway, mile 418.0, west of Harvey Locks, near Sargent, Matagorda County, Texas. They requested the temporary deviation for scheduled maintenance on the bridge. Currently, according to 33 CFR 117.5, the drawbridge opens on signal for the passage of vessels. The temporary deviation would allow the bridge to remain closed to navigation from 9 a.m. until 6 p.m. on Wednesday, September 2, 2009. The bridge has no vertical clearance in the closed-to-navigation position and has unlimited clearance in the open-to-navigation position. Navigation on the waterway consists of tugs with tows, fishing vessels, sailing vessels, and other recreational craft. This work is essential for the continued operation of the draw span. This request has been coordinated with waterway user groups and the local Coast Guard office.

In accordance with 33 CFR 117.35(e), the drawbridge must return to its regular operating schedule immediately at the end of the designated time period. This deviation from the operating regulations is authorized under 33 CFR 117.35.

Dated: August 9, 2009.
David M. Frank,
Bridge Administrator.

[FR Doc. E9-19823 Filed 8-18-09; 8:45 am]

BILLING CODE 4910-15-P